DEPARTMENT OF TRANSPORTATION

Surface Transportation Board

[STB Docket No. AB-1057X]

Missouri & Valley Park Railroad Corporation—Discontinuance of Service Exemption—in St Louis County, MO

On March 3, 2010, Missouri & Valley Park Railroad Corporation (MVPR) ¹ filed with the Surface Transportation Board a petition under 49 U.S.C. 10502 for exemption from the provisions of 49 U.S.C. 10903 to discontinue service over 3.5 miles of rail lines owned by BNSF located on the south side of BNSF's Cuba Subdivision between milepost 18.36 and milepost 20.50, near West Valley Park, St. Louis County, MO.² The lines traverse U.S. Postal Service Zip Code 63088, and include no stations.³

¹ MVPR leased the lines from BNSF Railway Company (BNSF) in 2002. See Missouri & Valley Park Railroad Corporation—Lease Exemption—The Burlington Northern and Santa Fe Railway Company, STB Finance Docket No. 34231 (STB served Aug. 5, 2002) (MVPR lease). According to MVPR, upon the expiration of MVPR's lease, BNSF leased the lines to Burlington Shortline Railroad, Inc. d/b/a Burlington Junction Railway, which commenced operations on the lines on January 30, 2010. See Burlington Shortline Railroad, Inc. d/b/a Burlington Junction Railway—Lease and Operation Exemption—BNSF Railway Company, STB Finance Docket No. 35333 (STB served Dec. 31, 2009).

² In MVPR lease, the length of the lines was described as 2.14 miles. According to MVPR, the lines are actually 3.5 miles in length.

³ On March 12, 2010, MVPR supplemented its petition with station information.

According to MVPR, the lines do not contain any Federally granted rights-of-way. Any documentation in MVPR's possession will be made available promptly to those requesting it.

MVPR proposes to discontinue service over these lines, which constitute its entire operations. When issuing discontinuance authority for railroad lines that constitute the carrier's entire system, the Board does not impose labor protection, except in specifically enumerated circumstances. See Northampton and Bath R. Co.—Abandonment, 354.I.C.C. 784, 785-86 (1978) (Northampton). Therefore, if the Board grants the petition for exemption, in the absence of a showing that one or more of the exceptions articulated in Northampton are present, no labor protective conditions would be imposed.

By issuance of this notice, the Board is instituting an exemption proceeding pursuant to 49 U.S.C. 10502(b). A final decision will be issued by June 21, 2010.

Any offer of financial assistance (OFA) under 49 CFR 1152.27(b)(2) to subsidize continued rail service will be due no later than 10 days after service of a decision granting the petition for exemption. Each offer must be accompanied by a $1,500 filing fee. See 49 CFR 1002.2(f)(25).⁴

⁴ Because this is a discontinuance proceeding and not an abandonment, trail use/rail banking and public use conditions are not appropriate. Similarly, no environmental or historic documentation is required under 49 CFR 1105.6(c)(2) and 1105.8.

All filings in response to this notice must refer to STB Docket No. AB-1057X, and must be sent to: (1) Surface Transportation Board, 395 E Street, SW., Washington, DC 20423-0001; and (2) Karl Morell, Of Counsel, Ball Janik LLP, 1455 F Street, NW., Suite 225, Washington, DC 20005. Replies to the petition are due on or before April 12, 2010.

Persons seeking further information concerning discontinuance procedures may contact the Board's Office of Public Assistance, Governmental Affairs, and Compliance at (202) 245-0230 or refer to the full abandonment and discontinuance regulations at 49 CFR part 1152. Questions concerning environmental issues may be directed to the Board's Section of Environmental Analysis (SEA) at (202) 245-0305. Assistance for the hearing impaired is available through the Federal Information Relay Service (FIRS) at 1-800-877-8339.

Board decisions and notices are available on our Web site at http://www.stb.dot.gov.

By the Board, Rachel D. Campbell, Director, Office of Proceedings.
Andrea Pope-Matheson,
Clearance Clerk.

[FR Doc. 2010-6380 Filed 3-22-10; 8:45 am]

BILLING CODE 4915-01-P